ENVIRONMENTAL PROTECTION AGENCY

[FRL-7624-8]

National Environmental Laboratory Accreditation Program Seeking Applications

AGENCY: Environmental Protection Agency.

ACTION: Notice.

SUMMARY: The Environmental Protection Agency is announcing that the National Environmental Laboratory Accreditation Program's (NELAP's) Proficiency Testing Board has posted an application at http://www.epa.gov/ttn/nelac, “recent additions” for all interested parties wanting to serve NELAP in the capacity of Proficiency Testing Oversight Body (PTOB)/Proficiency Testing Provider Accreditor (PTPA). As instructed at the top of the application, an electronic and one hard copy of the application and all documentation must be sent to Dr. Michael W. Miller, Proficiency Testing Board Chairperson, NJ-DEP-OQA, P.O. Box 424, Trenton, NJ 08625, michael.w.miller@dep.state.nj.us and an electronic copy of the application only to Ms. Lara P. Autry, NELAP Director at autry.lara@epa.gov. The application portion must be postmarked and received electronically by close-of-business on Friday, February 27, 2004. All requested documentation associated with the application must be postmarked and received electronically by close-of-business on Friday, March 26, 2004.

Dated: February 11, 2004.
Lionel Dorsey Worthy, Jr.,
Chief, Landscape Characterization Branch, Emission Standards Division, National Exposure Research Laboratory, Office of Research and Development.

[FR Doc. 04-3455 Filed 2-17-04; 8:45 am]

BILLING CODE 6560-50-P